DEPARTMENT OF ENERGY

Federal Energy Regulatory Commission

Notice

July 14, 2005.

The following notice of meeting is published pursuant to section 3(a) of the government in the Sunshine Act (Pub. L. 94-409), 5 U.S.C 552b:

Agency Holding Meeting: Federal Energy Regulatory Commission.

Date and Time: July 21, 2005; 10 a.m.

Place: Room 2C, 888 First Street, NE., Washington DC 20426.

Status: Open.

Matters to be Considered: Agenda.

*Note—Items listed on the agenda may be deleted without further notice.

Contact person for more information: Magalie R. Salas, Secretary, Telephone (202) 502-8400.

For a recorded listing item stricken from or added to the meeting, call (202) 502-8627.

This is a list of matters to be considered by the Commission. It does not include a listing of all papers relevant to the items on the agenda; however, all public documents may be examined in the Public Reference Room.

895th—Meeting

Regular Meeting

July 21, 2005, 10 a.m.

Item No. | Docket No. | Company
Administrative Agenda
A-1 | AD02-1-000 | Agency Administrative Matters.
A-2 | AD02-7-000 | Customer Matters, Reliability, Security and Market Operations.
A-3 | AD05-12-000 | Investigation of Supply Offers into MISO April-May 2005.
Markets, Tariffs, and Rates—Electric
E-1 | OMITTED
E-2 | OMITTED
E-3 | ER05-666-000, ER05-666-001, ER05-666-002 | Southwest Power Pool, Inc.
E-4 | ER05-990-000, ER05-990-001 | Southwest Power Pool.
E-5 | ER05-1029-000 | Midwest Independent Transmission System Operator, Inc.
E-6 | ER05-1051-000, ER05-1052-000 | Southwest Power Pool, Inc.
E-7 | ER05-1050-000 | AmerGen Energy Company, LLC.
E-8 | OMITTED
E-9 | OMITTED
E-10 | OMITTED
E-11 | OMITTED
E-12 | OMITTED
E-13 | ER05-6-023, ER05-6-028, ER05-6-030 | Midwest Independent Transmission System Operator, Inc.
| EL04-135-025, EL04-135-030, EL04-135-032, EL02-111-043, EL02-111-048, EL02-111-050 | Midwest Independent Transmission System Operator, Inc. and PJM Interconnection, L.L.C.
| EL03-212-039, EL03-212-044, EL03-212-046 | Ameren Services Company.
E-14 | OMITTED
E-15 | OMITTED
E-16 | ER04-691-038, ER04-691-043, ER04-691-048 | Midwest Independent Transmission System Operator, Inc.
| EL04-104-036, EL04-104-041, EL04-104-046 | Public Utilities with Grandfathered Agreements in the Midwest ISO Region.
E-17 | ER03-811-003 | Entergy Services, Inc.
E-18 | ER97-3923-002 | Infinite Energy, Inc.
E-19 | ER03-1331-003, ER03-1331-004 | Williams Power Company, Inc.
| ER99-1722-004, ER99-1722-005 | Williams Energy Marketing & Trading Company.
| ER97-4587-004, ER97-4587-005, ER97-4587-006 | Williams Generation Company—Hazelton.
| ER00-2469-001, ER00-2469-002, ER00-2469-003 | Williams Flexible Generation, LLC.
E-20 | ER99-3125-001 | Minergy Neenah, L.L.C.
E-21 | OMITTED
E-22 | OMITTED
E-23 | OMITTED
E-24 | EL01-106-000 | Old Dominion Electric Cooperative v. PJM Interconnection, L.L.C.
E-25 | EL05-117-000 | Old Dominion Electric Cooperative v. Potomac Edison Company d/b/a Allegheny Power.
E-26 | EL05-119-000 | Devon Power LLC v. ISO New England Inc.
E-27 | OMITTED
E-28 | EL05-53-000, ER05-129-000 | Southern Company Services, Inc.
E-29 | EL03-37-001 | Town of Norwood, Massachusetts v. National Grid USA, New England Electric System, Massachusetts Electric Company and Narragansett Electric Light Company.
E-30 | ER05-191-000, ER05-191-001 | Perryville Energy Partners, L.L.C.
E-31 | EL05-18-000, ER05-381-000 | City of Pasadena, California and California Independent System Operator Corporation.
E-32 | ER98-4410-000, ER98-4410-001, ER98-4410-002 | Entergy Services, Inc.
E-33 | ER02-1741-000, ER02-1742-000 | Nevada Power Company.
| ER04-424-002 | Valley Electric Association, Inc.
| ER02-2344-001 | Southern California Edison Company.
E-34 | OMITTED
E-35 | PA03-12-002 | Transmission Congestion on the Delmarva Peninsula.
E-36 | OMITTED
E-37 | ER05-413-001, ER05-413-002 | Southern Company Services, Inc.
E-38 | ER05-31-002, ER05-31-003 | American Electric Power Service Corporation.
| EL05-70-001, EL05-70-002, EL05-70-003 | PJM Interconnection, LLC and Midwest Independent Transmission System Operator, Inc.
E-39 | OMITTED
E-40 | OMITTED
E-41 | EL05-38-001, EL05-38-002 | Oklahoma Municipal Power Authority v. American Electric Power Service Corporation.
| EL05-126-000 | American Electric Power Service Corporation.
E-42 | OMITTED
E-43 | OMITTED
E-44 | EL05-46-001 | Entergy Nuclear Operations, Inc., Entergy Nuclear Indian Point 2, LLC and Entergy Nuclear Indian Point 3, LLC v. Consolidated Edison Company of New York, Inc.
E-45 | OMITTED
E-46 | ER04-938-001, ER04-938-002 | California Independent System Operator Corporation.
E-47 | EL05-55-001 | City of Holland, Michigan v. Midwest Independent Transmission System Operator, Inc.
E-48 | OMITTED
E-49 | ER04-663-000 | Entergy Services, Inc.
E-50 | ER05-10-000, ER05-10-003 | PJM Interconnection L.L.C.
E-51 | TX05-1-000, TX05-1-001, TX05-1-002 | East Kentucky Power Cooperative, Inc.
E-52 | ER05-985-000 | Trans Bay Cable LLC.
Markets, Tariffs, and Rates—Gas
G-1 | RP05-388-000 | CenterPoint Energy—Mississippi River Transmission Corporation.
G-2 | PR05-11-000 | The Cincinnati Gas & Electric Company.
G-3 | RP05-172-001 | CenterPoint Energy—Mississippi River Transmission Corporation.
G-4 | OMITTED
G-5 | RP05-51-001 | Dominion Transmission, Inc.
G-6 | RP05-254-000 | Kern River Gas Transmission Company.
G-7 | RP04-94-000, RP04-94-001 | Northern Natural Gas Company.
G-8 | RP05-216-001 | TransColorado Gas Transmission Company.
G-9 | RP05-290-001 | Midwestern Gas Transmission Company.
G-10 | OMITTED
G-11 | RP01-245-015 | Transcontinental Gas Pipe Line Corporation.
G-12 | OMITTED
G-13 | OMITTED
Energy Projects—Hydro
H-1 | DI04-3-001 | Chippewa and Flambeau Improvement Company.
H-2 | P-2368-040 | WPS New England, Inc.
H-3 | P-12430-001, P-12462-002 | Indian River Power Supply, LLC Alternative Light & Hydro Associates.
H-4 | P-12178-002 | Verdant Power, LLC.
H-5 | HB20-95-2-011 | City of Hamilton, Ohio.
H-6 | OMITTED
H-7 | P-2493-029, P-2493-025 | Puget Sound Energy, Inc.
Energy Projects—Certificates
C-1 | CP05-40-000, CP05-41-000 | Rendezvous Gas Services, L.L.C.
C-2 | RP04-215-001 | Tennessee Gas Pipeline Company v. Columbia Gulf Transmission Company.
C-3 | CP05-386-000 | Port Barre Gas Storage and Rapiere Resources Company.
C-4 | OMITTED
C-5 | CP05-58-000 | CenterPoint Energy Gas Transmission Company.
C-6 | CP05-8-000, CP05-9-000, CP05-10-000 | Starks Gas Storage L.L.C.
C-7 | OMITTED
C-8 | CP05-13-000 | Ingleside Energy Center LLC.
| CP05-11-000, CP05-12-000, CP05-14-000 | San Patricio Pipeline, LLC.
C-9 | CP04-366-002 | Gulf South Pipeline Company, LP.

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-14529 Filed 7-19-05; 1:42 pm]

BILLING CODE 6717-01-P